DEPARTMENT OF ENERGY

Federal Energy Regulatory Commission

Combined Notice Of Filings #1

Take notice that the Commission received the following electric corporate filings:

Docket Numbers: EC10-51-005.

Applicants: T. ROWE PRICE GROUP, INC.

Description: T. Rowe Price Group, Inc. submits notification of additional applicants as required by FERC's Order Extending Blanket Authorization to Acquire Securities.

Filed Date: 4/29/25.

Accession Number: 20250429-5345.

Comment Date: 5 p.m. ET 6/27/25.

Take notice that the Commission received the following exempt wholesale generator filings:

Docket Numbers: EG25-346-000.

Applicants: Sypert Branch Solar LLC.

Description: Sypert Branch Solar LLC submits Notice of Self-Certification of Exempt Wholesale Generator Status.

Filed Date: 6/6/25.

Accession Number: 20250606-5060.

Comment Date: 5 p.m. ET 6/27/25.

Take notice that the Commission received the following electric rate filings:

Docket Numbers: ER10-1437-016.

Applicants: Tampa Electric Company.

Description: Notice of Change in Status of Tampa Electric Company.

Filed Date: 6/4/25.

Accession Number: 20250604-5173.

Comment Date: 5 p.m. ET 6/25/25.

Docket Numbers: ER25-1980-000.

Applicants: Clinton Solar, LLC.

Description: Supplement to April 17, 2025 Clinton Solar, LLC tariff filing.

Filed Date: 6/4/25.

Accession Number: 20250604-5174.

Comment Date: 5 p.m. ET 6/25/25.

Docket Numbers: ER25-2034-002.

Applicants: Public Service Company of Colorado.

Description: Tariff Amendment: 2025-06-05—PSC—WAPA Exhibit No. 1—Meter Facilities—359—0.2.0 to be effective 6/23/2025.

Filed Date: 6/5/25.

Accession Number: 20250605-5162.

Comment Date: 5 p.m. ET 6/26/25.

Docket Numbers: ER25-2090-001.

Applicants: Southwest Power Pool, Inc.

Description: Tariff Amendment: 3125R18 Basin Electric Power Cooperative NITSA and NOA Amended to be effective 4/1/2025.

Filed Date: 6/6/25.

Accession Number: 20250606-5075.

Comment Date: 5 p.m. ET 6/27/25.

Docket Numbers: ER25-2260-001.

Applicants: Public Service Company of Colorado.

Description: Tariff Amendment: 2025-06-06—PSC-PI-2024-17-TW2-T.

Filed Date: 6/6/25.

Accession Number: 20250606-5182.

Comment Date: 5 p.m. ET 6/27/25.

Docket Numbers: ER25-2391-001.

Applicants: Midcontinent Independent System Operator, Inc. GridLiance Heartland LLC, GridLiance High Plains LLC.

Description: Tariff Amendment: GridLiance Heartland LLC submits tariff filing per 35.17(b): 2025-06-06_Amendment regarding GridLiance Heartland Request for Incentives to be effective 7/30/2025.

Filed Date: 6/6/25.

Accession Number: 20250606-5187.

Comment Date: 5 p.m. ET 6/27/25.

Docket Numbers: ER25-2397-000.

Applicants: 1803 Electric Cooperative, Inc.

Description: Request to Recover Costs Associated with Acting as a Local Balancing Authority of 1803 Electric Cooperative, Inc.

Filed Date: 5/30/25.

Accession Number: 20250530-5438.

Comment Date: 5 p.m. ET 6/20/25.

Docket Numbers: ER25-2436-000.

Applicants: Southwest Power Pool, Inc.

Description: § 205(d) Rate Filing: 4411 East River Electric/NorthWestern Energy Int Agr to be effective 8/6/2025.

Filed Date: 6/6/25.

Accession Number: 20250606-5005.

Comment Date: 5 p.m. ET 6/27/25.

Docket Numbers: ER25-2437-000.

Applicants: Southwest Power Pool, Inc.

Description: § 205(d) Rate Filing: 4412 Southwestern Power Admin/BMU Sikeston MO Inter Agr to be effective 6/1/2025.

Filed Date: 6/6/25.

Accession Number: 20250606-5021.

Comment Date: 5 p.m. ET 6/27/25.

Docket Numbers: ER25-2438-000.

Applicants: Tri-State Generation and Transmission Association, Inc.

Description: § 205(d) Rate Filing: Amendments to Wholesale Electric Service Contracts and Initial Filing of BP 116 to be effective 8/5/2025.

Filed Date: 6/6/25.

Accession Number: 20250606-5033.

Comment Date: 5 p.m. ET 6/27/25.

Docket Numbers: ER25-2439-000.

Applicants: Tri-State Generation and Transmission Association, Inc.

Description: § 205(d) Rate Filing: Amendment to RS 260 and Request for Highly Privileged and Confidential Treatment to be effective 8/5/2025.

Filed Date: 6/6/25.

Accession Number: 20250606-5037.

Comment Date: 5 p.m. ET 6/27/25.

Docket Numbers: ER25-2440-000.

Applicants: Basin Electric Power Cooperative, Southwest Power Pool, Inc.

Description: § 205(d) Rate Filing: Basin Electric Power Cooperative submits tariff filing per 35.13(a)(2)(iii: Basin Electric Power Cooperative FRT Revisions to Implement Rate Incentives to be effective 8/1/2025.

Filed Date: 6/6/25.

Accession Number: 20250606-5052.

Comment Date: 5 p.m. ET 6/27/25.

Docket Numbers: ER25-2441-000.

Applicants: El Paso Electric Company.

Description: § 205(d) Rate Filing: Service Agreement No. 422, Power Purchase and Sale Agreement with Freeport to be effective 7/7/2025.

Filed Date: 6/6/25.

Accession Number: 20250606-5073.

Comment Date: 5 p.m. ET 6/27/25.

Docket Numbers: ER25-2442-000.

Applicants: California Independent System Operator Corporation.

Description: § 205(d) Rate Filing: 2025-06-06 Tariff Amendment—Enhance Subscriber Participating Owner Options to be effective 8/6/2025.

Filed Date: 6/6/25.

Accession Number: 20250606-5096.

Comment Date: 5 p.m. ET 6/27/25.

Docket Numbers: ER25-2443-000.

Applicants: PJM Interconnection, L.L.C.

Description: § 205(d) Rate Filing: Amendment to ISA and ICSA, Service Agreement Nos. 5299 and 5369; AC1-173 to be effective 8/6/2025.

Filed Date: 6/6/25.

Accession Number: 20250606-5098.

Comment Date: 5 p.m. ET 6/27/25.

Docket Numbers: ER25-2444-000.

Applicants: Midcontinent Independent System Operator, Inc., Michigan Electric Transmission Company, LLC.

Description: § 205(d) Rate Filing: Michigan Electric Transmission Company, LLC submits tariff filing per 35.13(a)(2)(iii: 2025-06-06_METC Request for Incentives to be effective 8/6/2025.

Filed Date: 6/6/25.

Accession Number: 20250606-5107.

Comment Date: 5 p.m. ET 6/27/25.

Docket Numbers: ER25-2445-000.

Applicants: PJM Interconnection, L.L.C.

Description: § 205(d) Rate Filing: Amendment to ISA and CSA, Service Agreement Nos. 4413 and 4422; T131 to be effective 8/6/2025.

Filed Date: 6/6/25.

Accession Number: 20250606-5144.

Comment Date: 5 p.m. ET 6/27/25.

Docket Numbers: ER25-2446-000.

Applicants: PJM Interconnection, L.L.C.

Description: § 205(d) Rate Filing: Amendment to ISA and ICSA, Service Agreement Nos. 5298 and 5368; T131 to be effective 8/6/2025.

Filed Date: 6/6/25.

Accession Number: 20250606-5158.

Comment Date: 5 p.m. ET 6/27/25.

Docket Numbers: ER25-2447-000.

Applicants: ER Nava Storage, LLC.

Description: Initial Rate Filing: Market-Based Rate Application to be effective 6/7/2025.

Filed Date: 6/6/25.

Accession Number: 20250606-5171.

Comment Date: 5 p.m. ET 6/27/25.

Docket Numbers: ER25-2448-000.

Applicants: PJM Interconnection, L.L.C.

Description: Tariff Amendment: Notice of Cancellation ISA, SA No. 5800; AC1-143 re failure to exit suspension to be effective 8/6/2025.

Filed Date: 6/6/25.

Accession Number: 20250606-5172.

Comment Date: 5 p.m. ET 6/27/25.

Docket Numbers: ER25-2449-000.

Applicants: ER South Street Storage, LLC.

Description: Initial Rate Filing: Market-Based Rate Application to be effective 6/7/2025.

Filed Date: 6/6/25.

Accession Number: 20250606-5178.

Comment Date: 5 p.m. ET 6/27/25.

Docket Numbers: ER25-2450-000.

Applicants: PJM Interconnection, L.L.C.

Description: Tariff Amendment: Notice of Cancellation ISA, SA No. 6505; AE1-240 re: withdrawn to be effective 8/6/2025.

Filed Date: 6/6/25.

Accession Number: 20250606-5180.

Comment Date: 5 p.m. ET 6/27/25.

Docket Numbers: ER25-2451-000.

Applicants: Tri-State Generation and Transmission Association, Inc.

Description: § 205(d) Rate Filing: Initial Filing of Rate Schedule No. 408 to be effective 8/6/2025.

Filed Date: 6/6/25.

Accession Number: 20250606-5184.

Comment Date: 5 p.m. ET 6/27/25.

Docket Numbers: ER25-2452-000.

Applicants: Tri-State Generation and Transmission Association, Inc.

Description: § 205(d) Rate Filing: Initial Filing of Rate Schedule Nos. 409, 410, and 411 to be effective 8/6/2025.

Filed Date: 6/6/25.

Accession Number: 20250606-5192.

Comment Date: 5 p.m. ET 6/27/25.

Docket Numbers: ER25-2453-000.

Applicants: Tri-State Generation and Transmission Association, Inc.

Description: § 205(d) Rate Filing: Initial Filing of Rate Schedule Nos. 412 and 413 to be effective 8/6/2025.

Filed Date: 6/6/25.

Accession Number: 20250606-5218.

Comment Date: 5 p.m. ET 6/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 6, 2025.
Debbie-Anne A. Reese,
Secretary.

[FR Doc. 2025-10675 Filed 6-11-25; 8:45 am]

BILLING CODE 6717-01-P